DEPARTMENT OF TRANSPORTATION

Federal Aviation Administration

14 CFR Part 39

[Docket No. FAA-2007-27982; Directorate Identifier 2007-NM-009-AD; Amendment 39-15288; AD 2007-25-06]

RIN 2120-AA64

Airworthiness Directives; Airbus Model A300 Series Airplanes, Model A300-600 Series Airplanes, and Model A310 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

* * * accidents which occurred to in-service aircraft caused by the violent opening of a passenger door, related to excessive residual pressurization in the cabin on ground.

* * * * *

This unsafe condition could result in injury to crew members opening the passenger door. We are issuing this AD to require actions to correct the unsafe condition on these products.

DATES: This AD becomes effective January 14, 2008.

The Director of the Federal Register approved the incorporation by reference of certain publications listed in this AD as of January 14, 2008.

ADDRESSES: You may examine the AD docket on the Internet at http://www.regulations.gov; or in person at the U.S. Department of Transportation, Docket Operations, M-30, West Building Ground Floor, Room W12-140, 1200 New Jersey Avenue, SE., Washington, DC.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on April 24, 2007 (72 FR 20289). That NPRM proposed to correct an unsafe condition for the specified products. The MCAI states:

The modification rendered mandatory by this Airworthiness Directive (AD) falls within the scope of a set of corrective measures undertaken by AIRBUS subsequent to accidents which occurred to in-service aircraft caused by the violent opening of a passenger door, related to excessive residual pressurization in the cabin on ground.

In order to prevent the flight crews operating in manual mode when discrete spoilers signals are true and ensures OFV (outflow valve) or depress valve are driven open after landing, this modification consists of introducing an automatic opening logic either for the forward and aft OFV or for the single depress valve, when the aircraft is on ground, immediately after landing.

The MCAI requires the modification described previously. This unsafe condition could result in injury to crew members opening the passenger door. You may obtain further information by examining the MCAI in the AD docket.

Comments

We gave the public the opportunity to participate in developing this AD. We considered the comments received.

Request To Include Revised Service Information

Airbus asks that Airbus Service Bulletin A300-21-6049, Revision 02, dated April 16, 2007, be incorporated into the NPRM. (We referred to Revision 01, dated September 15, 2006, as the appropriate source of service information for accomplishing certain actions specified in the NPRM.)

We agree with Airbus and have changed paragraph (f)(1) of this AD to refer to Revision 02 of Service Bulletin A300-21-6049 for accomplishing certain actions, as no additional work is required by this revision. We have also changed paragraph (f)(2) of this AD to give credit to operators who have accomplished the actions in accordance with Airbus Service Bulletin A300-21-6049, Revision 01, dated September 15, 2006.

Request To Withdraw the NPRM

The Air Transport Association (ATA), on behalf of its member American Airlines, asks that the NPRM be withdrawn. American Airlines states that the NPRM is unnecessary in light of the associated mitigating actions and crew training. The commenters also cite actions in previous service bulletins and rulemaking that already address the requirements in the NPRM.

We acknowledge that previous service bulletins and rulemaking have been issued to address certain aspects of the subject unsafe condition. However, we do not agree with the requests to withdraw the NPRM. The modification required by this AD alleviates some of the demands on the crews' time and attention during an emergency situation. It was determined that this modification addresses the unsafe condition because previous actions implemented changes that still required the attention and action of the crew. During an emergency situation and if the cabin pressure control system is in manual mode, the crew could be distracted enough that the necessary steps to prevent opening of a door with the fuselage still under some level of pressurization may be inadvertently missed. This would be avoided with the “OFV Automatic Opening Logic” installed. The purpose of the OFV opening logic is to offset a crew missing the required action (OFV full opening before landing is required by the procedure). Following an evaluation of the OFV opening logic, we have determined that the modification must be mandated. This modification, in combination with previous accomplishment of related modifications, will ensure that the unresolved safety issue is addressed. We have made no change to the AD in this regard.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 191 products of U.S. registry. We also estimate that it will take up to 34 work-hours per product to comply with the basic requirements of this AD. The average labor rate is $80 per work-hour. Required parts will cost up to $5,470 per product. Where the service information lists required parts costs that are covered under warranty, we have assumed that there will be no charge for these costs. As we do not control warranty coverage for affected parties, some parties may incur costs higher than estimated here. Based on these figures, we estimate the cost of the AD on U.S. operators to be up to $1,564,290, or $8,190 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-25-06 Airbus: Amendment 39-15288. Docket No. FAA-2007-27982; Directorate Identifier 2007-NM-009-AD.

Effective Date

(a) This airworthiness directive (AD) becomes effective January 14, 2008.

Affected ADs

(b) None.

Applicability

(c) This AD applies to the following airplanes, certificated in any category:

(1) Model A300 series airplanes, manufacturer serial numbers 0202, 0205, 0225, 0299, and 0302, in forward facing crew cockpit configuration, except airplanes which have received in service application of Airbus Service Bulletin A300-21-0132.

(2) Model A310 series airplanes, all certified models, all serial numbers, except airplanes which have received in service application of Airbus Service Bulletin A310-21-2062.

(3) Model A300-600 series airplanes, all certified models, all serial numbers, on which Airbus Modification 03881 is embodied, except airplanes which have received either incorporation of Airbus Modification 12942 during production, or application of Airbus Service Bulletin A300-21-6049 in service.

Subject

(d) Air Transport Association (ATA) of America Code 21: Air conditioning.

Reason

(e) The mandatory continued airworthiness information (MCAI) states:

The modification rendered mandatory by this Airworthiness Directive (AD) falls within the scope of a set of corrective measures undertaken by AIRBUS subsequent to accidents which occurred to in-service aircraft caused by the violent opening of a passenger door, related to excessive residual pressurization in the cabin on ground.

In order to prevent the flight crews operating in manual mode when discrete spoilers signals are true and ensures OFV (outflow valve) or depress valve are driven open after landing, this modification consists of introducing an automatic opening logic either for the forward and aft OFV or for the single depress valve, when the aircraft is on ground, immediately after landing.

This unsafe condition could result in injury to crew members opening the passenger door.

Actions and Compliance

(f) Unless already done, do the following actions.

(1) Within 18 months after the effective date of this AD: Install an automatic opening logic either for the forward and aft OFV (outflow valve) or for the single depress valve, as applicable, by introducing the use of discrete spoiler signals, driving one (Model A300 airplanes) or two (Model A310 airplanes and Model A300-600 series airplanes) time delay relays, in accordance with the instructions of Airbus Service Bulletin A300-21-0132, dated July 28, 2006; A310-21-2062, dated July 20, 2006; or A300-21-6049, Revision 02, dated April 16, 2007; as applicable.

(2) Actions done before the effective date of this AD in accordance with Airbus Service Bulletin A300-21-6049, dated August 31, 2005; or Revision 01, dated September 15, 2006, are acceptable for compliance with the corresponding requirements of this AD.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington, 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2007-0005, dated January 8, 2007; and Airbus Service Bulletins A300-21-0132, dated July 28, 2006; A300-21-6049, Revision 02, dated April 16, 2007; and A310-21-2062, dated July 20, 2006; for related information.

Material Incorporated by Reference

(i) You must use the applicable Airbus service information specified in Table 1 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 1.—Material Incorporated by Reference
Airbus Service Bulletin | Revision | Date
A300-21-0132 | Original | July 28, 2006.
A300-21-6049 | 02 | April 16, 2007.
A310-21-2062 | Original | July 20, 2006.

Issued in Renton, Washington, on November 23, 2007.
Ali Bahrami,
Manager, Transport Airplane Directorate, Aircraft Certification Service.

[FR Doc. E7-23462 Filed 12-7-07; 8:45 am]

BILLING CODE 4910-13-P